DEPARTMENT OF COMMERCE

International Trade Administration

[A-570-806]

Silicon Metal from the People's Republic of China: Final Results of Antidumping Duty Administrative Review

AGENCY: Import Administration, International Trade Administration, Department of Commerce.

SUMMARY: On March 7, 2012, the Department of Commerce (“Department”) published the preliminary results of the administrative review of the antidumping duty order on silicon metal from the People's Republic of China (“PRC”). The period of review (“POR”) is June 1, 2010, through May 31, 2011.

Based on our analysis of the comments received, we have made changes to the margin calculations. Therefore, the final results differ from the preliminary results. The final weighted-average dumping margin for Shanghai Jinneng International Trade Co., Ltd. (“Shanghai Jinneng”) is listed below in the section entitled “Final Results of the Review.”

FOR FURTHER INFORMATION CONTACT: Rebecca Pandolph or Howard Smith, AD/CVD Operations, Office 4, Import Administration, International Trade Administration, U.S. Department of Commerce, 14th Street and Constitution Avenue NW., Washington, DC 20230; telephone: (202) 482-3627, and (202) 482-5193, respectively.

SUPPLEMENTARY INFORMATION: On March 7, 2012, the Department published Silicon Metal from the People's Republic of China: Preliminary Results of Antidumping Duty Administrative Review, 77 FR 13534 (March 7, 2012) (“Preliminary Results”).

On March 27, 2012, Shanghai Jinneng submitted additional surrogate value information.¹ On March 30, 2012, the Department requested clarification of Shanghai Jinneng's surrogate value submission and on April 4, 2012, Shanghai Jinneng responded to the Department's request for clarification.² On April 16, 2012, Globe Metallurgical Inc. (“Petitioner”) submitted rebuttal surrogate value information.³ On April 18, 2012, the Department requested clarification of Petitioner's rebuttal surrogate value submission and on April 19, 2012, Petitioner responded to the Department's request for clarification.⁴

¹ See Letter from Shanghai Jinneng to the Honorable John Bryson, Secretary of Commerce, regarding, “Silicon Metal from the People's Republic of China,” dated March 27, 2012.

² See Letter from Howard Smith, Program Manager, AD/CVD Operations, Office 4 to All Interested Parties regarding, “Antidumping Duty Administrative Review of Silicon Metal from the People's Republic of China: Surrogate Values Submission,” dated March 30, 2012. See also Letter from Shanghai Jinneng to the Honorable John Bryson, Secretary of Commerce, regarding, “Silicon Metal from the People's Republic of China: Shanghai Jinneng International Trade Co., Ltd. —Supplement to Surrogate Value Submission,” dated April 4, 2012.

³ See Letter from Petitioner to the Honorable John Bryson, Secretary of Commerce, regarding “Silicon Metal From the People's Republic of China; 2010-11 Administrative Review; Submission of Factual Information to Rebut, Clarify, or Correct Surrogate Value Information Submitted by Shanghai Jinneng International Trade Co., Ltd.,” dated April 16, 2012

⁴ See Letter from Howard Smith, Program Manager, AD/CVD Operations, Office 4 to All Interested Parties regarding, “Antidumping Duty Administrative Review of Silicon Metal from the People's Republic of China: Rebuttal Surrogate Values Submission,” dated April 18, 2012. See also Letter from Petitioner to the Honorable John Bryson, Secretary of Commerce, regarding, “Silicon Metal From the People's Republic of China; 2010-11 Administrative Review; Response to Department Request for Information Regarding Globe's Rebuttal Surrogate Value Submission,” dated April 4, 2012.

On April 4, 2012, Petitioner requested additional time to submit case and rebuttal briefs.⁵ On April 5, 2012 the Department extended the deadline for filing case briefs until April 13, 2012, and extended the deadline for filing rebuttal briefs until no later than five days after the time limit for filing the case briefs.⁶ On April 6, 2012, Shanghai Jinneng requested additional time to submit case and rebuttal briefs.⁷ On April 10, 2012, the Department extended the deadline for submitting case briefs until April 20, 2012 and extended the deadline for submitting rebuttal briefs until April 27, 2012.⁸ On April 24, 2012, Petitioner requested additional time for filing rebuttal case briefs and on April 26, 2012, the Department granted an extension until May 4, 2012 to file rebuttal briefs.⁹ On April 20, 2012, Petitioner and Shanghai Jinneng submitted case briefs and on May 4, 2012, both submitted rebuttal case briefs.

⁵ See Letter from Petitioner to the Honorable John Bryson, Secretary of Commerce, regarding “Silicon Metal From the People's Republic of China; 2010-11 Administrative Review; Request for Extension of Time to Submit Case and Rebuttal Briefs,” dated April 4, 2012.

⁶ See Letter from Howard Smith, Program Manager, AD/CVD Operations, Office 4 to Interested Parties regarding, “Antidumping Duty Administrative Review of Silicon Metal from the People's Republic of China for the period June 1, 2010 to May 31,2011,” dated April 5, 2012.

⁷ See Letter from Shanghai Jinneng to the Honorable John Bryson, Secretary of Commerce, regarding, “Silicon Metal from the People's Republic of China,” dated April 6, 2012.

⁸ See Letter from Howard Smith, Program Manager, AD/CVD Operations, Office 4 to Interested Parties regarding, “Antidumping Duty Administrative Review of Silicon Metal from the People's Republic of China for the period June 1, 2010 to May 31, 2011,” dated April 10, 2012.

⁹ See Letter from Petitioner to the Honorable John Bryson, Secretary of Commerce, regarding “Silicon Metal From the People's Republic of China; 2010-11 Administrative Review; Request for Extension of Time to Submit Rebuttal Briefs,” dated April 24, 2012 and Letter from Howard Smith, Program Manager, AD/CVD Operations, Office 4 to Interested Parties regarding, “Antidumping Duty Administrative Review of Silicon Metal from the People's Republic of China for the period June 1, 2010 to May 31, 2011,” dated April 26, 2012.

On April 5, 2012, Petitioner requested a public hearing and a closed session of the hearing.¹⁰ On June 7, 2012, the Department held a hearing which was closed to the public, in part, pursuant to 19 CFR 351.310.

¹⁰ See Letter from Petitioner to the Honorable John Bryson, Secretary of Commerce, regarding “Silicon Metal From the People's Republic of China; 2010-11 Administrative Review; Request for Hearing and Closed Hearing Session,” dated April 5, 2012.

Analysis of Comments Received

All issues raised in the case and rebuttal briefs by parties in this review are addressed in the Memorandum from Gary Taverman, Senior Advisor for Antidumping and Countervailing Duty Operations, to Paul Piquado, Assistant Secretary for Import Administration, “Issues and Decision Memorandum for the Final Results of the June 1, 2010 through May 31, 2011 Administrative Review of the Antidumping Duty Order on Silicon Metal from the People's Republic of China,” dated August 29, 2012, which is hereby adopted by this notice (“Issues and Decision Memorandum”). A list of the issues which parties raised and to which we respond in the Issues and Decision Memorandum is attached to this notice as an Appendix. The Issues and Decision Memorandum is a public document and is on file electronically via Import Administration's Antidumping and Countervailing Duty Centralized Electronic Service System (“IA ACCESS”). IA ACCESS is available to registered users at http://iaaccess.trade.gov and in the Central Records Unit, main Commerce building, Room 7046. In addition, a complete version of the Issues and Decision Memorandum is accessible on the Department's Web site at http://www.trade.gov/ia. The signed Issues and Decision Memorandum and electronic versions of the memorandum are identical in content.

Changes Since the Preliminary Results

Based on an analysis of the comments received, the Department has made the following changes:

• Calculated a new surrogate value for labor using data reported by Thailand to the International Labour Organization (“ILO”) in Chapter 6A of the ILO Yearbook for total manufacturing labor from 2005.¹¹

¹¹ See Issues and Decision Memorandum at Issue 4.

• Recalculated the factors of production to exclude the quantity of container cliff and edge silicon sold from the total production quantity.¹²

¹² See Issues and Decision Memorandum at Issue 2.

• Weight-averaged the transportation costs for Shanghai Jinneng's quartz input.¹³

¹³ See Issues and Decision Memorandum at Issue 8.

Period of Review

The POR is June 1, 2010, through May 31, 2011.

Scope of the Order

Imports covered by the order are shipments of silicon metal containing at least 96.00 but less than 99.99 percent of silicon by weight. Also covered by the order is silicon metal from the PRC containing between 89.00 and 96.00 percent silicon by weight but which contain a higher aluminum content than the silicon metal containing at least 96.00 percent but less than 99.99 percent silicon by weight. Silicon metal is currently provided for under subheadings 2804.69.10 and 2804.69.50 of the Harmonized Tariff Schedule of the United States (“HTSUS”) as a chemical product, but is commonly referred to as a metal. Semiconductor-grade silicon (silicon metal containing by weight not less than 99.99 percent of silicon and provided for in subheading 2804.61.00 of the HTSUS) is not subject to the order. Although the HTSUS subheadings are provided for convenience and for customs purposes, the written description of the merchandise is dispositive.

Separate Rates

In the Preliminary Results, we determined that Shanghai Jinneng demonstrated its eligibility for separate-rate status.¹⁴ We have not received any information since the issuance of the Preliminary Results that provides a basis for reconsideration of this determination. Therefore, the Department continues to find that Shanghai Jinneng meets the criteria for a separate rate.

¹⁴ See Preliminary Results, 77 FR at 13535.

Final Results of the Review

We determine that the following weighted-average percentage margin exists for the POR:

Exporter | Margin (percentage)
Shanghai Jinneng International Trade Co., Ltd. | 14.36

Disclosure

The Department intends to disclose calculations performed for these final results to the parties within five days of the date of the public announcement of the results of this review in accordance with 19 CFR 351.224(b).

Assessment Rates

Pursuant to section 751(a)(2)(A) of the Tariff Act of 1930, as amended (“the Act”), and 19 CFR 351.212(b), the Department will determine, and U.S. Customs and Border Protection (“CBP”) shall assess, antidumping duties on all appropriate entries covered by this review. The Department intends to issue assessment instructions to CBP 15 days after the publication date of the final results of this review. In accordance with 19 CFR 351.212(b)(1), we are calculating importer or customer-specific assessment rates for the merchandise subject to this review. Because we do not have entered values for all U.S. sales to a particular importer/customer, we are calculating a per-unit assessment rate by aggregating the antidumping duties due for all U.S. sales to that importer (or customer) and dividing this amount by the total quantity sold to that importer (or customer).¹⁵ Where a customer-specific ad valorem rate is zero or de minimis (i.e., less than 0.50 percent), we will instruct CBP to liquidate appropriate entries without regard to antidumping duties.¹⁶ To determine whether the duty assessment rates are de minimis, in accordance with the requirement set forth in 19 CFR 351.106(c)(2), we calculated importer or customer-specific ad valorem ratios based on the estimated entered value. We intend to instruct CBP to liquidate entries containing subject merchandise exported by the PRC-wide entity at the PRC-wide rate.

¹⁵ See, e.g., Certain Cased Pencils From the People's Republic of China: Final Results of the Antidumping Duty Administrative Review, 76 FR 27988, 27989 (May 13, 2011).

¹⁶ See 19 CFR 351.106(c)(2).

Cash Deposit Requirements

The following cash deposit requirements will be effective upon publication of the final results of this administrative review for all shipments of the subject merchandise entered, or withdrawn from warehouse, for consumption on or after the publication date, as provided for by section 751(a)(2)(C) of the Act: (1) For the exporter listed above, the cash deposit rate will be the rate established in the final results of this review (except, if the rate is zero or de minimis, (i.e., less than 0.5 percent), a zero cash deposit rate will be required for that company); (2) for previously investigated or reviewed PRC and non-PRC exporters not listed above that have separate rates, the cash deposit rate will continue to be the exporter-specific rate published for the most recent period; (3) for all PRC exporters of subject merchandise that have not been found to be entitled to a separate rate, the cash deposit rate will be the PRC-wide rate of 139.49 ¹⁷ percent; and (4) for all non-PRC exporters of subject merchandise which have not received their own rate, the cash deposit rate will be the rate applicable to the PRC exporter(s) that supplied that non-PRC exporter. These deposit requirements, when imposed, shall remain in effect until further notice.

¹⁷ See Final Determination of Sales at Less Than Fair Value: Silicon Metal from the People's Republic of China, 56 FR 18570, 18571-2 (April 23, 1991).

Notification to Importers

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

Notification to Interested Parties

This notice also serves as a reminder to parties subject to administrative protective order (“APO”) of their responsibility concerning the return or destruction of proprietary information disclosed under the APO in accordance with 19 CFR 351.305(a)(3), which continues to govern business proprietary information in this segment of the proceeding. Timely written notification of the return/destruction of APO materials or conversion to judicial protective order is hereby requested. Failure to comply with the regulations and terms of an APO is a violation which is subject to sanction.

The Department is issuing and publishing these final results of administrative review in accordance with sections 751(a)(1) and 777(i)(1) of the Act.

Dated: August 29, 2012.
Paul Piquado,
Assistant Secretary for Import Administration.

Appendix

Issue 1: Whether the Department should reduce the U.S. Price by export tax and/or value-added tax.

Issue 2: Whether to exclude container cliff and edge silicon from the reported production quantity.

Issue 3: By-product offsets.

Issue 4: Surrogate value for labor.

Issue 5: The appropriate weight over which to allocate brokerage and handling expenses.

Issue 6: Excluding certain expenses from brokerage and handling.

Issue 7: Surrogate value for rail freight.

Issue 8: Transportation cost for quartz.

[FR Doc. 2012-21879 Filed 9-4-12; 8:45 am]

BILLING CODE 3510-DS-P